DEPARTMENT OF THE INTERIOR

Bureau of Indian Affairs

[DR.5B711.IA000814]

Land Acquisitions; Mechoopda Indian Tribe of Chico Rancheria of California

AGENCY: Bureau of Indian Affairs, Interior.

ACTION: Notice of Final Agency Determination; Technical Correction.

SUMMARY: This document makes a technical correction to the acreage estimate and the land description contained in the notice published on Wednesday, February 5, 2014, 79 FR 6917. The notice concerns the final agency determination to acquire approximately 626.55 acres of land in trust for the Mechoopda Indian Tribe of Chico Rancheria of California for gaming and other purposes.

FOR FURTHER INFORMATION CONTACT: Paula L. Hart, Director, Office of Indian Gaming, Bureau of Indian Affairs, MS-3657 MIB, 1849 C Street NW., Washington, DC 20240; Telephone (202) 219-4066.

SUPPLEMENTARY INFORMATION: On January 24, 2014, the Assistant Secretary—Indian Affairs issued a final agency determination to acquire approximately 626.55 acres of land in trust for the Mechoopda Indian Tribe of Chico Rancheria of California (Tribe) for gaming and other purposes. Notice of the January 24, 2014 final agency determination was published in the Federal Register on February 5, 2014. 79 FR 6917. The Federal Register Notice published on February 5, 2014, did not reflect an estimate that had been prepared by the Bureau of Land Management using the Geographic Information Systems (GIS) model. This technical correction does not change the footprint of the acquisition published on February 5, 2014, it merely provides a more accurate estimate of the total acreage within the boundaries of the January 24, 2014 final agency determination. The Federal Register Notice published on February 5, 2014, is now clarified to reflect the GIS model estimate of approximately 631 acres.

Furthermore, the land description in the February 5, 2014, notice is correct, but has been amended by the Bureau of Indian Affairs to eliminate unnecessary or duplicative information. On pages 6917 and 6918 of the February 5, 2014, Federal Register, the land description is amended to read as follows:

Parcel I

All that portion of the east half of the northeast quarter of Section 1, Township 20 North, Range 2 East, M.D.B. & M., lying easterly of U.S. Highway 99E.

Excepting therefrom that portion thereof, heretofore conveyed to the State of California by deed recorded July 27, 1951, in Book 575, Page 326, Official Records, recorded October 9, 1974, in Book 1944, Page 64, Official Records and October 9, 1974, in Book 1944, Page 68, Official Records.

Parcel II

The north half of the northwest quarter, the southwest quarter of the northwest quarter and the northwest quarter of the southwest quarter of Section 5, and all that portion of Section 6 lying northeasterly of the Oroville Chico Highway, all in Township 20 North, Range 3 East, M.D.B. & M.

Excepting therefrom said Section 6, that portion conveyed to the State of California by Deed recorded July 27, 1951 in Book 575, Page 326, Official Records.

Also excepting therefrom that portion conveyed to the State of California by Deed recorded October 9, 1974, in Book 1944, Page 64, Official Records.

APN 041-190-048-00 (PARCEL I) and APN 041-190-045-000 (PARCEL II).

A copy of the decision dated January 24, 2014 is available at: http://www.indianaffairs.gov/cs/groups/webteam/documents/text/idc1-025066.pdf.

Dated: February 19, 2014.
Kevin K. Washburn,
Assistant Secretary—Indian Affairs.

[FR Doc. 2014-04267 Filed 2-26-14; 8:45 am]

BILLING CODE 4310-4N-P